DEPARTMENT OF HEALTH AND HUMAN SERVICES

Centers for Disease Control and Prevention

Disease, Disability, and Injury Prevention and Control Special Emphasis Panel (SEP): Human Immunodeficiency Virus (HIV) Prevention Projects for Young Men of Color Who Have Sex With Men and Young Transgender Persons of Color, Funding Opportunity Announcement (FOA) PS11-1113, Initial Review

In accordance with Section 10(a)(2) of the Federal Advisory Committee Act (Pub. L. 92-463), the Centers for Disease Control and Prevention (CDC) announces the aforementioned meeting:

Times and Dates:

8 a.m.-7 p.m., July 10, 2011 (Closed).

8 a.m.-7 p.m., July 11, 2011 (Closed).

8 a.m.-7 p.m., July 12, 2011 (Closed).

8 a.m.-7 p.m., July 13, 2011 (Closed).

Place: Atlanta Marriott Century Center, 2000 Century Boulevard NE., Atlanta, Georgia 30345, Telephone (404) 325-0000.

Status: The meeting will be closed to the public in accordance with provisions set forth in Section 552b(c) (4) and (6), Title 5 U.S.C., and the Determination of the Director, Management Analysis and Services Office, CDC, pursuant to Public Law 92-463.

Matters to be Discussed: The meeting will include the initial review, discussion, and evaluation of applications received in response to “HIV Prevention Projects for Young Men of Color Who Have Sex with Men and Young Transgender Persons of Color, FOA PS11-1113.”

Contact Person for More Information: Harriette Lynch, Public Health Analyst, Extramural Programs, National Center for HIV, Hepatitis and Sexually Transmitted Diseases Prevention, CDC, 1600 Clifton Road, NE., Mailstop E-60, Atlanta, Georgia 30333, Telephone (404) 498-2726, E-mail HLynch@cdc.gov.

The Director, Management Analysis and Services Office, has been delegated the authority to sign Federal Register notices pertaining to announcements of meetings and other committee management activities, for both the Centers for Disease Control and Prevention, and the Agency for Toxic Substances and Disease Registry.

Dated: February 14, 2011.
Elaine L. Baker,
Director, Management Analysis and Services Office, Centers for Disease Control and Prevention.

[FR Doc. 2011-3930 Filed 2-18-11; 8:45 am]

BILLING CODE 4163-18-P